ENVIRONMENTAL PROTECTION AGENCY

[EPA-HQ-OAR-2007-0595; FRL-9974-36-OEI]

Proposed Information Collection Request; Comment Request; Regulation of Fuels and Fuel Additives: Detergent Gasoline

AGENCY: Environmental Protection Agency (EPA).

ACTION: Notice.

SUMMARY: The Environmental Protection Agency (EPA) has submitted an information collection request (ICR), Regulation of Fuels and Fuel Additives: Detergent Gasoline (EPA ICR No. 1655.10, OMB Control No. 2060-0275), to the Office of Management and Budget (OMB) for review and approval in accordance with the Paperwork Reduction Act. This is a proposed reinstatement of the ICR, which was approved through November 30, 2017. Public comments were previously requested via the Federal Register on October 6, 2017 during a 60-day comment period. This notice allows for an additional 30 days for public comments. A fuller description of the ICR is given below, including its estimated burden and cost to the public. An agency may not conduct or sponsor and a person is not required to respond to a collection of information unless it displays a currently valid OMB control number.

DATES: Comments must be submitted on or before March 30, 2018.

ADDRESSES: Submit your comments, referencing Docket ID No. EPA-HQ-OAR-2007-0595, online using https://www.regulations.gov (our preferred method), by email to a-and-r-docket@epa.gov, or by mail to: (1) EPA Docket Center, Environmental Protection Agency, Mail Code 28221T, 1200 Pennsylvania Ave. NW, Washington, DC 20460, and (2) OMB via email to oria_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: James W. Caldwell, Environmental Engineer, Compliance Division, Office of Transportation and Air Quality, Mail Code 6405A, U.S. Environmental Protection Agency, 1200 Pennsylvania Avenue NW, Washington, DC 20460; Telephone: (202) 343-9303; Fax: (202) 343-2802; Email address: caldwell.jim@epa.gov.

SUPPLEMENTARY INFORMATION: Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit http://www.epa.gov/dockets.

Abstract: Gasoline combustion results in the formation of engine deposits. The accumulation of deposits, particularly in the orifices of fuel injectors and on intake valves, typically results in increased emissions and reduced engine performance. As fuel injectors replaced carburetors in the 1980's, a number of vehicle manufacturers experienced problems with deposit formation. Detergent additives, which had been available for years to control deposits in carbureted vehicles, were improved to accommodate the new technology. However, their use was voluntary and there were no regulatory standards by which to gauge their effectiveness. Congress recognized the importance of effective detergent additives in minimizing vehicle emissions, and added Section 211(1) in the Clean Air Act Amendments of 1990. It required gasoline to contain detergent additives, effective January 1, 1995, and provided EPA with the authority to establish specifications for such additives. The regulations at 40 CFR 80, Subpart G implemented certification requirements for detergents and imposed a variety of recordkeeping and reporting requirements for certain parties involved with detergents, gasoline, or post-refinery component (any gasoline blending stock or any oxygenate that is blended with gasoline subsequent to the gasoline refining process (PRC)). All gasolines must contain certified detergents, with the exception of research, racing, and aviation gasolines.

Form Numbers: None

Respondents/affected entities: The respondents are related to the following major group Standard Industrialization Classification (SIC) codes: 5172-Petroleum Products and 2911-Petroleum Refining. The respondents are related to the following major group NAICS codes: 324110-Petroleum Refineries; 324199-All Other Petroleum and Coal Products Manufacturing; 325110-Petrochemical Manufacturing; 325199-All Other Basic Organic Chemical Manufacturing; 424710-Petroleum Bulk Stations and Terminals; and 424720-Petroleum and Petroleum Products Merchant Wholesalers (except Bulk Stations and Terminals).

Respondent's obligation to respond: Mandatory per 40 CFR 80, Subpart G.

Estimated number of respondents: 1,354 (total).

Frequency of response: On occasion.

Total estimated burden: 220,181 hours (per year). Burden is defined at 5 CFR 1320.03(b).

Total estimated cost: $16,554,566.00 (per year), which includes $335,040.00 annualized capital or operation & maintenance costs.

Changes in Estimates: There is no increase of hours in the total estimated respondent burden compared with the ICR currently approved by OMB. The respondent universe and responses also remain the same in this collection. There is a decrease in cost to the industry of $2,281,002 per year due to a correction in industry labor costs.

Courtney Kerwin,
Director, Regulatory Support Division.

[FR Doc. 2018-04056 Filed 2-27-18; 8:45 am]

BILLING CODE 6560-50-P